FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 20, 2018.

A. Federal Reserve Bank of Minneapolis (Mark A. Rauzi, Vice President), 90 Hennepin Avenue, Minneapolis, Minnesota 55480-0291:

1. The JTP Irrevocable Trust, the CLP Irrevocable Trust, the JDP Irrevocable Trust, and the SRM Irrevocable Trust, all of Baldwin, North Dakota, (Trustee, Jay T. Pahlke, Baldwin, North Dakota); for approval to join the Pahlke Family Group and thereby retain shares of Dakota Community Banshares, Inc., Hebron, North Dakota and thereby indirectly retain shares of Dakota Community Bank & Trust, NA, Hebron, North Dakota; and the Amber D. Staiger Irrevocable Trust, Hebron, North Dakota and the Ward L. Sayler Irrevocable Trust, Mandan, North Dakota, (Trustee, Amber D. Staiger, Hebron, North Dakota); Dale Sayler, Hebron, North Dakota; Justin D. Sayler, Dickinson, North Dakota; and KerryAnn Thompson, Bismarck, North Dakota; to join the Sayler Family Group and thereby retain shares of Dakota Community Bancshares, Inc.

B. Federal Reserve Bank of Kansas City (Dennis Denney, Assistant Vice President) 1 Memorial Drive, Kansas City, Missouri 64198-0001:

Kelley A. Rash, Broken Arrow, Oklahoma; to acquire voting shares of Arkansas Valley Bancshares, Inc., Broken Arrow, Oklahoma, and thereby indirectly acquire shares of AVB Bank, Broken Arrow, Oklahoma. In addition, Sally G. Wilton, Oklahoma City, Oklahoma, Kerry K. Kimbrough, Broken Arrow, Oklahoma, Sara N. Cruncleton, Tulsa, Oklahoma, Cooper N. Rash, Broken Arrow, Oklahoma, Henry G. Wilton, Austin, Texas, Samuel W. Wilton, Oklahoma City, Oklahoma, the Kerry K. Kimbrough Revocable Trust, Broken Arrow, Oklahoma, the Neely W. Kimbrough Revocable Trust, Broken Arrow, Oklahoma, the Kelley Rash Living Trust, Broken Arrow, Oklahoma, the Kelley Rash Trust B, Broken Arrow, Oklahoma, the Cooper Nakai Rash AVB Trust B, Broken Arrow, Oklahoma, the Sally Wilton Revocable Trust, Oklahoma City, Oklahoma, the Sally Wilton Trust B, Oklahoma City, Oklahoma, the Estelle Brown Family Trust #5, Oklahoma City, Oklahoma, and the Estelle Brown Family Trust #6, Oklahoma City, Oklahoma; to become members of the Kimbrough Family Group which controls shares of Arkansas Valley Bancshares, Inc., Broken Arrow, Oklahoma.

Board of Governors of the Federal Reserve System, May 30, 2018.
Ann Misback,
Secretary of the Board.

[FR Doc. 2018-11911 Filed 6-1-18; 8:45 am]

BILLING CODE P